FEDERAL COMMUNICATIONS COMMISSION

[CC Docket Nos. 96-45 and 96-98; DA 01-2636]

Final Opportunity for Parties To Refresh the Record Regarding Reconsideration of Rules

AGENCY: Federal Communications Commission.

ACTION: Notice; solicitation of comments.

SUMMARY: In July 2001, the Commission published three notices asking parties to refresh the record regarding petitions for reconsideration of the Universal Service First Report and Order, Local Competition First Report and Order, and Local Competition Second Report and Order. In this document, the Commission provides a list of the petitioners that did not respond to the July notices. To ensure that each party that filed a petition for reconsideration to the Universal Service First Report and Order, Local Competition First Report and Order, and Local Competition Second Report and Order has actual notice and an opportunity to respond, the Bureau will mail a copy of the Notice released on November 14, 2001 to these parties so that these parties may file a supplemental notice of their intent to pursue their respective petitions for reconsideration. The Commission intends to dismiss those petitions for reconsideration from parties that do not indicate an intent to pursue their respective petitions.

DATES: Comments are due on or before December 20, 2001.

ADDRESSES: See Supplementary Information section for where and how to file comments.

FOR FURTHER INFORMATION CONTACT: Sheryl Todd, Management Analyst, or Richard D. Smith, Attorney, Common Carrier Bureau, Accounting Policy Division, (202) 418-7400 TTY: (202) 418-0484.

SUPPLEMENTARY INFORMATION: In July 2001, the Common Carrier Bureau (Bureau) released three notices, the Universal Service Notice (66 FR 37963, July 20, 2001), the Local Competition First Report and Order Notice (66 FR 38611, July 25, 2001), and the Local Competition Second Report and Order Notice (66 FR 42499, August 13, 2001) asking parties to refresh the record regarding petitions for reconsideration of the Universal Service First Report and Order (62 FR 32862, June 17, 1997), Local Competition First Report and Order (61 FR 45476, August 29, 1996), and Local Competition Second Report and Order (61 FR 47284, September 6, 1996). The Bureau noted that since the release of these orders many of the issues raised in the petitions for reconsideration may have become moot or irrelevant in light of intervening events. For these reasons, the Bureau requested that parties that had filed petitions for reconsideration of these orders file a supplemental notice in response to the notices indicating which issues, if any, they still wished to have reconsidered. The Bureau stated that to the extent parties did not indicate an intent to pursue their respective petitions for reconsideration, the Commission would deem such petitions withdrawn and would dismiss such petitions. Each of the notices were published in the Federal Register. Several parties filed in response to the notices indicating an intent to pursue their respective petitions for reconsideration.

In this notice, the Bureau announces the list of the petitioners that did not respond to the July notices, as set forth below. These parties may file a supplemental notice of their intent to pursue their respective petitions for reconsideration on or before December 20, 2001. The Commission intends to dismiss those petitions for reconsideration from parties that do not indicate an intent to pursue their respective petition for reconsideration. To ensure that each party that filed a petition for reconsideration to the Universal Service First Report and Order, Local Competition First Report and Order, and Local Competition Second Report and Order has actual notice and an opportunity to respond, in addition to publishing this notice in the Federal Register, the Bureau will also mail a copy of this notice to these parties. To the extent that parties have already indicated that they wish to pursue their respective petitions, they need not respond to this notice.

All filings relating to the Universal Service First Report and Order are to reference CC Docket No. 96-45. All filings relating to the Local Competition First and Second Report and Order are to reference CC Docket No. 96-98. Comments may be filed using the Commission's Electronic Comment Filing System (ECFS) or by filing paper copies. See Electronic Filing of Documents in Rulemaking Proceedings, 63 FR 24121 (1998). Comments filed through the ECFS can be sent as an electronic file via the Internet to http://www.fcc.gov/e-file/ecfs.html. Generally, only one copy of an electronic submission must be filed. In completing the transmittal screen, commenters should include their full name, Postal Service mailing address, and the applicable docket or rulemaking number. Parties may also submit electronic comments by Internet e-mail. To receive filing instructions for e-mail comments, commenters should send an e-mail to ecfs@fcc.gov, and should include the following words in the body of the message, “get form <your e-mail address>.” A sample form and directions will be sent in reply. Parties who choose to file by paper must file an original and four copies of each filing. All filings must be sent to the Commission's Secretary, Magalie Roman Salas, Office of the Secretary, Federal Communications Commission, 445 12th Street, SW., TW-A325, Washington, DC 20554. Parties also must send copies of their Universal Service First Report and Order filings to Sheryl Todd, Accounting Policy Division, Common Carrier Bureau, Federal Communications Commission, 445 Twelfth Street, SW., Room 5-A422, Washington, DC 20554. Parties must send copies of their Local Competition First Report and Order filings to Janice M. Myles, Common Carrier Bureau, 445 Twelfth Street, SW., Room 5-C327, Washington, DC 20554. Parties must send copies of their Local Competition Second Report and Order filings to Dennis Johnson, Common Carrier Bureau, 445 Twelfth Street, SW., Room 6-A207, Washington, DC 20554. In addition, interested parties must send diskette copies to the Commission's copy contractor, Qualex International, Portals II, 445 Twelfth Street, SW., Room CY-B402, Washington, DC 20554. The original petitions for reconsideration that parties filed in 1996-1997 are available for inspection and copying during normal business hours in the FCC's Reference Center, Room CY-A257, 445 12th Street, SW, Washington, DC 20554.

Pursuant to § 1.1206 of the Commission's rules, this proceeding will be conducted as a permit-but-disclose proceeding in which ex parte communications are permitted subject to disclosure.

This is a list of the petitioners that did not respond to the July notices.

Commenter | Date filed
Petitions for Reconsideration of the Universal Service First Report and Order
Ad Hoc | 7/17/97
AirTouch Communications, Inc. | 7/17/97
Alaska Public Utilities Commission | 7/17/97
Alaska Telephone Association | 7/17/97
Alliance for Public Technology | 7/14/97
ALLTEL | 7/17/97
American Petroleum Institute | 7/16/97
AMSC Subsidiary Corporation | 7/17/97
Arkansas Public Service Commission | 7/16/97
Benton Foundation/Edgemont Neighborhood Coalition | 7/23/97
Cellular Telecommunications Industry Assoc. | 7/17/97
Columbia Communications Corp. | 7/17/97
Comcast Cellular Communications, Inc. | 7/17/97
Fidelity Telephone Company | 7/17/97
Florida Dept. of Education | 7/17/97
Florida Dept. of Management Services | 7/17/97
Florida Public Service Commission | 7/16/97
GE American Communications, Inc. | 7/17/97
Georgia Dept. of Administrative Services—Info.Tech. | 7/17/97
General Communications, Inc. | 7/17/97
Global Village Schools Institute | 6/25/97
GVNW | 7/11/97
ITCs, Inc. | 7/17/97
Information Technology Assoc. of America | 7/16/97
Iowa Telecommunications and Technology Commission | 7/17/97
Kansas Corporation Commission | 7/17/97
MCI Telecommunications Corporation | 7/17/97
National Association of State Telecommunications Directors | 7/17/97
National Exchange Carrier Association, Inc. | 7/17/97
New Jersey Division of the Ratepayer Advocate | 7/17/97
New York Library Association | 7/17/97
NEXTEL Communications, Inc. | 7/17/97
Ozark Telecom, Inc. | 7/17/97
Personal Communications Industry Association | 7/17/97
ProNet Inc. | 7/17/97
Rural Telephone Companies | 7/17/97
Sandwich Isles | 7/17/97
Sprint Corp. | 7/17/97
Sprint Spectrum L.P. | 7/17/97
Teletouch Licenses, Inc. | 7/17/97
TelHawaii, Inc. | 7/17/97
Texas Public Utilities Commission | 7/16/97
Time Warner Communications Holdings, Inc. | 7/17/97
United Utilities | 7/16/97
US WEST | 7/17/97
Vermont Public Service Board | 7/17/97
Washington State Dept. of Information Services | 7/17/97
Western Alliance | 7/17/97
Wyoming Public Service Commission | 7/17/97
Petitions for Reconsideration of the Local Competition First Report and Order
Airtouch Paging, Cal-Autofone and Radio Electronic Products Corp. | 9/30/96
American Electric Power Service Corporation, et al. | 9/30/96
American Public Power Association | 9/30/96
Arch Communications Group, Inc. | 9/30/96
Association of American Railroads | 9/30/96
Beehive Telephone Company, Inc. | 9/30/96
Carolina Power & Light Company | 9/30/96
Cellular Telecommunications Industry Association | 9/30/96
Colorado Public Utilities Commission | 9/27/96
Comcast Cellular Communications, Inc. and Vanguard Cellular Systems, Inc. | 9/30/96
Consolidated Communications Telecom Services Inc. | 9/30/96
Consolidated Edison Company of New York, Inc. | 9/30/96
Cox Communications, Inc. | 9/30/96
Delmarva Power & Light Company | 9/30/96
Duquesne Light Company | 9/30/96
Edison Electric Institute, et al. | 9/30/96
Florida Power & Light Company | 9/30/96
General Communication, Inc. | 9/30/96
Information Technology Association of America | 9/30/96
Kalida Telephone Company, Inc. | 9/30/96
Local Exchange Carrier Coalition | 9/30/96
Lower Colorado River Authority | 9/30/96
Margaretville Telephone Co., Inc. | 9/30/96
Meek, Representative Carrie P. | 9/23/96
National Cable Television Association, Inc. | 9/30/96
Pacific Gas and Electric Company | 9/30/96
Paging Network, Inc. | 9/30/96
Pennsylvania Power & Light Company | 9/30/96
Pilgrim Telephone, Inc. | 9/30/96
Public Service Commission of Wisconsin | 9/27/96
Public Utilities Commission of Ohio | 9/30/96
Rand McNally & Company | 9/30/96
Sprint Corporation | 9/30/96
Teleport Communications Group Inc. | 9/30/96
Texas Public Utility Commission | 9/26/96
Time Warner Communications Holdings, Inc. | 9/30/96
UTC, The Telecommunications Association | 9/30/96
Washington Utilities and Transportation Commission | 9/30/96
Weldon, Representative Dave | 9/23/96
WinStar Communications, Inc. | 9/30/96
Petitions for Reconsideration of the Local Competition Second Report and Order
Airtouch Paging/PowerPage | 10/7/96
Ameritech | 10/7/96
AT&T | 10/7/96
BellSouth Corp. | 10/7/96
GTE Service Corp. | 10/7/96
MCI Telecommunications Corp. | 10/7/96
New York State Dept. of Public Service | 10/7/96
NYNEX Telephone Companies | 10/7/96
Rural Telephone Coalition | 10/7/96
U.S. Telephone Association | 10/7/96

Dated: November 14, 2001.
Katherine L. Schroder,
Division Chief, Accounting Policy Division.

[FR Doc. 01-28934 Filed 11-19-01; 8:45 am]

BILLING CODE 6712-01-P